DEPARTMENT OF TRANSPORTATION

Federal Aviation Administration

RTCA Special Committee 202: Portable Electronic Devices

AGENCY: Federal Aviation Administration (FAA), DOT.

ACTION: Notice of RTCA Special Committee 202 meeting.

SUMMARY: The FAA is issuing this notice to advise the public of a meeting of RTCA Special Committee 202: Portable Electronic Devices.

DATES: The meeting will be held on July 22-24, 2003 from 9 a.m. to 4:30 p.m.

ADDRESSES: The meeting will be held at RTCA, Inc., 1828 L Street, NW., Suite 805, Washington, DC 20036-5133.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 202 meeting. The agenda will include:

• July 22:

• Working Groups 1 through 3 meet all day

• July 23:

• Opening Plenary Session (Welcome and Introductory Remarks, Review Agenda, Review/Approve previous Common Plenary Summary, Review Open Action Items)

• Report from Program Management Committee on SC-202 recommended revisions to Terms of Reference

• Review and update of EUROCAE WG58 Activities

• Review Working Group (WG) Progress and Identify Issues for Resolution (will continue into second day as required)

• Working Group 1 (PEDs characterization, test, and evaluation)

• Updated Project Management template information

• Structure, outline, intended contents of work group's data report

• Preliminary or summary list of devices type/categorizations

• Grouped by frequencies used, modulation type, power, etc.

• Prioritized device categories for Phase 1 document

• Equipment needs or other support required

• Working Group 2 (Aircraft test and analysis)

• Updated Project Management template information

• Structure, outline, intended contents of work group's data report

• Plan for aircraft test

• What has to be determined to be already existing and useable data

• Needs for airplane availability

• Equipment needs or other support required

• July 24:

• Continue Plenary Session

• Review of Working Group (WG) Progress and Identify Issues for Resolution

• Working Group 3 (Aircraft systems susceptibility)

• Updated Project Management template information

• Structure, outline, intended contents of work group's data report

• Definition of systems susceptibility presentation format

• Prioritized list of on-aircraft systems to identify “most critical” victim systems

• Summary of timeframe for data availability

• Testing requirements identified, plan for initial susceptibility testing

• Specific data required from WG1 and WG2 testing or evaluation of existing data

• Working Group 4 (Risk assessment, practical application, and final documentation)

• Updated Project Management template information

• Structure, outline, intended contents of work group's data report

• First cut or current plan for what guidance, and identify where the gaps are that should be addressed in SC-202 report

• Preliminary requests for data from other WGs (what data is needed first)

• Issues identified for resolution by several Working Groups

• Testing of aircraft receiver false-alarm and missed-detection susceptibilities to Ultra Wide Band emissions as done by NASA and airlines team

• How to address the intermodulation issue

• How to address the multiple-PED issue

• Additional items as identified during working-group report-out

• Assignment/Review of Future Work

• Closing Session (Other Business, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 24, 2003.
Janice L. Peters,
FAA Special Assistant, RTCA Advisory Committee.

[FR Doc. 03-18383 Filed 7-18-03; 8:45 am]

BILLING CODE 4910-13-M